DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Peter J. Francis, M.D., Ph.D., Oregon Health Sciences University: Based on the report of an investigation conducted by Oregon Health Sciences University (OHSU) and additional analysis conducted by ORI in its oversight review, ORI found that Dr. Peter J. Francis, Associate Professor, Casey Eye Institute, OHSU, engaged in research misconduct in research reported in two grant applications, R01 EY021214-01 and resubmitted as R01 EY021214-01A1, that he submitted to the National Eye Institute (NEI), National Institutes of Health (NIH).

Specifically, ORI finds that the Respondent fabricated results of a pilot experiment in which he claimed to have injected retinal pigment epithelial (RPE) cells obtained from Rhesus monkey embryonic stem cells (ECS) into a strain of rats (RCS) that develops retinal degeneration.

Respondent claimed that after the injection of ECS-derived RPE cells 21 days postnatal, the rats were tested at day 60 postnatal for optomotor acuity, and that the retinal histology of eyes receiving ECS-derived RPE cells, compared to mock-injected controls, showed enhanced photoreceptor preservation and no adverse effects. Respondent admitted that this experiment had not been conducted either by the time the original grant application had been submitted or by the time the later R01 EY021214-01A1 application was submitted.

Dr. Francis has entered into a Voluntary Settlement Agreement (Agreement) and has voluntarily agreed for a period of two (2) years, beginning on March 29, 2012:

(1) To have his research supervised; Respondent agrees to ensure that prior to the submission of an application for U.S. Public Health Service (PHS) support for a research project on which the Respondent's participation is proposed and prior to Respondent's participation in any capacity on PHS-supported research, the institution employing him must submit a plan for supervision of Respondent's duties to ORI for approval; the plan for supervision must be designed to ensure the scientific integrity of Respondent's research contribution; Respondent agrees that he shall not participate in any PHS-supported research after sixty (60) days from the effective date of this Agreement until such a supervision plan is submitted to and approved by ORI; Respondent agrees to maintain responsibility for compliance with the agreed upon supervision plan;

(2) that this supervisory plan provided by any institution employing him shall provide assurance that each application for PHS funds, or report, manuscript, or abstract involving PHS supported research in which Respondent was involved was based on actual experiments or was otherwise legitimately derived, that the data, procedures, and methodology were accurately reported in the application, report, manuscript, or abstract, and that the text in such submissions was his own or properly cited the source of copied language and ideas; and

(3) to exclude himself from serving in any advisory capacity to PHS including, but not limited to, service on any PHS advisory committee, board, and/or peer review committee, or as a consultant.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2012-8903 Filed 4-12-12; 8:45 am]

BILLING CODE 4150-31-P